DEPARTMENT OF AGRICULTURE

Forest Service

Eleven Point Resource Advisory Committee

AGENCY: Forest Service, USDA.

ACTION: Notice of meeting.

SUMMARY: The Eleven Point Resource Advisory Committee will meet in Winona Missouri. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is review proposed forest management projects so that recommendations may be made to the Forest Service on which should be funded through Title II of the Act mentioned above.

DATES: The meeting will be held September 20, 2011, 6:30 p.m.

ADDRESSES: The meeting will be held at the Twin Pines Conservation Education Center located on U.S. Highway 60, Rt 1, Box 1998, Winona, MO. Written comments may be submitted as described under Supplementary Information. All comments, including names and addresses when provided, are placed in the record and are available for public inspection and copying. The public may inspect comments received at Mark Twain National Forest Supervisors Office, 401 Fairgrounds Road, Rolla, MO. Please call ahead to 573-341-7404 to facilitate entry into the building to view comments.

FOR FURTHER INFORMATION CONTACT: Richard Hall, Eleven Point Resource Advisory Committee Coordinator, Mark Twain National Forest, 573-341-7404, rrhall@fs.fed.us.

Individuals who use telecommunication devices for the deaf (TDD) may call the Federal Information Relay Service (FIRS) at 1-800-877-8339 between 8 a.m. and 8 p.m., Eastern Standard Time, Monday through Friday. Please make requests in advance for sign language interpreting, assistive listening devices or other reasonable accommodation for access to the facility or proceedings by contacting the person listed for further information.

SUPPLEMENTARY INFORMATION: The following business will be conducted: Two projects from Douglas County will be evaluated. The full agenda may be viewed at https://wwwnotes.fs.fed.us/wo/secure_rural_schools.nsf. Anyone who would like to bring related matters to the attention of the committee may file written statements with the committee staff before or after the meeting. The agenda will include time for people to make oral statements of three minutes or less. Individuals wishing to make an oral statement should request in writing by September 19, 2011 to be scheduled on the agenda. Written comments and requests for time for oral comments must be sent to Richard Hall, 401 Fairgrounds Road, Rolla, MO, 65401, or by e-mail to rrhall@fs.fed.us, or via facsimile to 573-364-6844. A summary of the meeting will be posted at https://wwwnotes.fs.fed.us/wo/secure_rural_schools.nsf within 21 days of the meeting.

Dated: August 29, 2011.
David C. Whittekiend,
Forest Supervisor.

[FR Doc. 2011-22500 Filed 9-1-11; 8:45 am]

BILLING CODE 3410-11-P